DEPARTMENT OF TRANSPORTATION

Federal Aviation Administration

14 CFR Part 39

[Docket No. FAA-2014-0427; Directorate Identifier 2013-NM-218-AD]

RIN 2120-AA64

Airworthiness Directives; Lockheed Martin Corporation/Lockheed Martin Aeronautics Company Airplanes

AGENCY: Federal Aviation Administration (FAA), DOT.

ACTION: Notice of proposed rulemaking (NPRM).

SUMMARY: We propose to supersede Airworthiness Directive (AD) 2011-09-04, which applies to all Lockheed Martin Corporation/Lockheed Martin Aeronautics Company Model 382, 382B, 382E, 382F, and 382G airplanes. AD 2011-09-04 currently requires repetitive inspections for any damage of the lower surface of the center wing box, and corrective actions if necessary. Since we issued AD 2011-09-04, an evaluation by the design approval holder (DAH) indicated that the center wing box is subject to widespread fatigue damage (WFD). This proposed AD would also require replacement of the center wing box, which would terminate the repetitive inspections. This proposed AD would also add a concurrent related investigative action. We are proposing this AD to detect and correct fatigue cracking of the lower surface of the center wing box, which could result in structural failure of the wings.

DATES: We must receive comments on this proposed AD by August 15, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Lockheed Martin Corporation/Lockheed Martin Aeronautics Company, Airworthiness Office, Dept. 6A0M, Zone 0252, Column P-58, 86 S. Cobb Drive, Marietta, GA 30063; telephone 770-494-5444; fax 770-494-5445; email ams.portal@lmco.com; Internet http://www.lockheedmartin.com/ams/tools/TechPubs.html. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Carl Gray, Aerospace Engineer, Airframe Branch, ACE-117A, FAA, Atlanta Aircraft Certification Office, 1701 Columbia Avenue, College Park, GA 30337; telephone 404-474-5554; fax 404-474-5605; email: carl.w.gray@faa.gov.

SUPPLEMENTARY INFORMATION:

Comments Invited

We invite you to send any written relevant data, views, or arguments about this proposed AD. Send your comments to an address listed under the ADDRESSES section. Include “Docket No. FAA-2014-0427; Directorate Identifier 2013-NM-218-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Structural fatigue damage is progressive. It begins as minute cracks, and those cracks grow under the action of repeated stresses. This can happen because of normal operational conditions and design attributes, or because of isolated situations or incidents such as material defects, poor fabrication quality, or corrosion pits, dings, or scratches. Fatigue damage can occur locally, in small areas or structural design details, or globally. Global fatigue damage is general degradation of large areas of structure with similar structural details and stress levels. Multiple-site damage is global damage that occurs in a large structural element such as a single rivet line of a lap splice joining two large skin panels. Global damage can also occur in multiple elements such as adjacent frames or stringers. Multiple-site-damage and multiple-element-damage cracks are typically too small initially to be reliably detected with normal inspection methods. Without intervention, these cracks will grow, and eventually compromise the structural integrity of the airplane, in a condition known as widespread fatigue damage (WFD). As an airplane ages, WFD will likely occur, and will certainly occur if the airplane is operated long enough without any intervention.

The FAA's WFD final rule (75 FR 69746, November 15, 2010) became effective on January 14, 2011. The WFD rule requires certain actions to prevent structural failure due to WFD throughout the operational life of certain existing transport category airplanes and all of these airplanes that will be certificated in the future. For existing and future airplanes subject to the WFD rule, the rule requires that DAHs establish a limit of validity (LOV) of the engineering data that support the structural maintenance program. Operators affected by the WFD rule may not fly an airplane beyond its LOV, unless an extended LOV is approved.

The WFD rule (75 FR 69746, November 15, 2010) does not require identifying and developing maintenance actions if the DAHs can show that such actions are not necessary to prevent WFD before the airplane reaches the LOV. Many LOVs, however, do depend on accomplishment of future maintenance actions. As stated in the WFD rule, any maintenance actions necessary to reach the LOV will be mandated by airworthiness directives through separate rulemaking actions.

In the context of WFD, this action is necessary to enable DAHs to propose LOVs that allow operators the longest operational lives for their airplanes, and still ensure that WFD will not occur. This approach allows for an implementation strategy that provides flexibility to DAHs in determining the timing of service information development (with FAA approval), while providing operators with certainty regarding the LOV applicable to their airplanes.

On April 12, 2011, we issued AD 2011-09-04, Amendment 39-16666 (76 FR 28626, May 18, 2011), for all Lockheed Martin Corporation/Lockheed Martin Aeronautics Company Model 382, 382B, 382E, 382F, and 382G airplanes. AD 2011-09-04 requires repetitive inspections for any damage of the lower surface of the center wing box, and corrective actions if necessary. AD 2011-09-04 resulted from reports of fatigue cracks of the lower surface of the center wing box. We issued AD 2011-09-04 to detect and correct such cracks, which could result in the structural failure of the wings.

Actions Since AD 2011-09-04 Was Issued

Since we issued AD 2011-09-04, Amendment 39-16666 (76 FR 28626, May 18, 2011), the DAH completed an evaluation that indicated removal of a recurring inspection, establishment of a terminating action, and reference to certain center wing box replacement service information is necessary to safeguard the airplane against WFD up to the LOV of the airplane.

Relevant Service Information

We reviewed Lockheed Service Bulletin 382-57-85 (82-790), Revision 3, dated July 8, 2013, including Appendix A, dated July 8, 2013, and Appendixes B, C, D, E, F, and G, all Revision 1, all dated March 8, 2007. This service information is essentially the same as Lockheed Service Bulletin 382-57-85 (82-790), Revision 2, dated August 23, 2007, including Appendixes A, B, C, D, E, F, and G, all Revision 1, all dated March 8, 2007, which is referred to as the appropriate source of service information in AD 2011-09-04, Amendment 39-16666 (76 FR 28626, May 18, 2011). Revision 3 adds a concurrent related investigative action, which involves a bolt hole eddy current inspection for cracking at additional fastener locations.

We also reviewed Lockheed Service Bulletin 382-57-94, dated December 3, 2013, which describes procedures for replacement of the center wing box. Accomplishing the replacement eliminates the need for repetitive inspections.

Other Relevant Rulemaking

Accomplishing the replacement of the center wing box specified in paragraph (k) of this proposed AD affects the requirements of the following ADs:

• AD 2011-09-03, Amendment 39-16665 (77 FR 22311, April 21, 2011), which requires repetitive eddy current inspections to detect cracks in the center wing upper and lower rainbow fittings, and corrective actions if necessary; and repetitive replacements of rainbow fittings, which would extend the repetitive interval for the next inspection. We issued this AD to detect and correct fatigue cracks, which could grow large and lead to the failure of the fitting and a catastrophic failure of the center wing.

• AD 2011-15-02, Amendment 39-16749 (76 FR 41647, July 15, 2011), which superseded AD 2008-20-01, Amendment 39-15680 (73 FR 56464, September 29, 2008). AD 2011-15-02 continues to require revising the maintenance program by incorporating new airworthiness limitations for fuel tank systems to satisfy the requirements of Special Federal Aviation Regulation (SFAR) No. 88 (“SFAR 88,” Amendment 21-78, and subsequent Amendments 21-82 and 21-83), which is part of a regulation titled “Transport Airplane Fuel Tank System Design Review, Flammability Reduction and Maintenance and Inspection Requirements” (66 FR 23086, May 7, 2001). AD 2011-15-02 also continues to require accomplishing certain fuel system modifications, initial inspections of certain repetitive fuel system limitations to phase in those inspections, and repair if necessary. AD 2011-15-02 corrects certain part number references, adds an additional inspection area and, for certain airplanes, requires certain actions to be re-accomplished according to revised service information. AD 2011-15-02 was issued to prevent the potential for ignition sources inside fuel tanks caused by latent failures, alterations, repairs, or maintenance actions, which, in combination with flammable fuel vapors, could result in a fuel tank explosion and consequent loss of the airplane.

• AD 2012-06-09, Amendment 39-16990 (77 FR 21404, April 10, 2012), which requires revising the maintenance/inspection program to include inspections that will give no less than the required damage tolerance analysis for each principal structural element (PSE), doing repetitive inspections to detect cracks of all PSEs, and repairing cracked structure. We issued this AD to maintain the continued structural integrity of the fleet.

FAA's Determination

We are proposing this AD because we evaluated all the relevant information and determined the unsafe condition described previously is likely to exist or develop in other products of the same type design.

Proposed AD Requirements

This proposed AD would retain all of the requirements of AD 2011-09-04, Amendment 39-16666 (76 FR 28626, May 18, 2011). This proposed AD would also require replacement of the center wing box, which would terminate the repetitive inspections. This proposed AD would add a concurrent related investigative action, which involves a bolt hole eddy current inspection for cracking at additional fastener locations.

We revised the phrase “accomplishment of the service bulletin” in paragraph (g)(3) of AD 2011-09-04, Amendment 39-16666 (76 FR 28626, May 18, 2011), to specify “accomplishment of the inspection specified in paragraph (g) of this AD.”

We also have removed Note 1 of AD 2011-09-04, Amendment 39-16666 (76 FR 28626, May 18, 2011). The text in Note 1 is informational and is not a requirement of this proposed AD.

Differences Between This Proposed AD and the Service Information

Although the service information specifies that operators may contact the manufacturer for using adjusted thresholds and intervals, using alternative repetitive inspection intervals, and using alternative inspection methods, this proposed AD would require operators to obtain approval of any alternative thresholds, intervals, or inspection methods from the FAA.

Explanation of Compliance Time

The compliance time for the replacement specified in this proposed AD for addressing WFD was established to ensure that discrepant structure is replaced before WFD develops in the affected airplanes. Standard inspection techniques cannot be relied on to detect WFD before it becomes a hazard to flight. We will not grant any extensions of the compliance time to complete any AD-mandated service information related to WFD without extensive new data that would substantiate and clearly warrant such an extension.

Costs of Compliance

We estimate that this proposed AD affects 15 airplanes of U.S. registry.

We estimate the following costs to comply with this proposed AD:

Estimated Costs
Action | Labor cost | Parts cost | Cost per product | Cost on U.S. operators
Inspection [retained action from AD 2011-09-04, Amendment 39-16666 (76 FR 28626, May 18, 2011)] | 2,000 work-hours × $85 per hour = $170,000 | N/A | $170,000 | $2,550,000 per inspection cycle.
Replacement [new proposed action] | 4,800 work-hours × $85 per hour = $408,000 | $5,000,000 | 5,408,000 | $81,120,000.

We estimate the following costs to do any necessary repair that would be required. We have no way of determining the number of aircraft that might need this repair:

On-Condition Costs
Action | Labor cost | Parts cost | Cost per product
Repair [retained from AD 2011-09-04, Amendment 39-16666 (76 FR 28626, May 18, 2011)] | 1,000 to 3,000 work-hours × $85 per hour = $85,000 to $255,000 | $30,000 | $115,000 to $285,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-09-04, Amendment 39-16666 (76 FR 28626, May 18, 2011), and adding the following new AD:

Lockheed Martin Corporation/Lockheed Martin Aeronautics Company: Docket No. FAA-2014-0427; Directorate Identifier 2013-NM-218-AD.

(a) Comments Due Date

The FAA must receive comments on this AD action by August 15, 2014.

(b) Affected ADs

This AD supersedes AD 2011-09-04, Amendment 39-16666 (76 FR 28626, May 18, 2011).

(c) Applicability

This AD applies to all Lockheed Martin Corporation/Lockheed Martin Aeronautics Company Model 382, 382B, 382E, 382F, and 382G airplanes; certificated in any category.

(d) Subject

Air Transport Association (ATA) of America Code 57, Wings.

(e) Unsafe Condition

This AD was prompted by an evaluation by the design approval holder (DAH) that indicated the center wing box is subject to widespread fatigue damage (WFD). We are issuing this AD to detect and correct fatigue cracking of the lower surface of the center wing box, which could result in structural failure of the wings.

(f) Compliance

Comply with this AD within the compliance times specified, unless already done.

(g) Retained Inspection With Revised Service Information

This paragraph restates the actions required by paragraph (g) of AD 2011-09-04, Amendment 39-16666 (76 FR 28626, May 18, 2011), with revised service information. At the time specified in paragraphs (g)(1), (g)(2), and (g)(3) of this AD, whichever occurs latest: Do a nondestructive inspection of the lower surface of the center wing box for any damage, in accordance with Lockheed Service Bulletin 382-57-85 (82-790), Revision 2, dated August 23, 2007, including Appendixes A, B, C, D, E, F, and G, all Revision 1, all dated March 8, 2007; or Revision 3, dated July 8, 2013, including Appendix A, dated July 8, 2013, and Appendixes B, C, D, E, F, and G, all Revision 1, all dated March 8, 2007. Repeat the inspections thereafter at intervals not to exceed 10,000 flight hours. As of the effective date of this AD, use only Lockheed Service Bulletin 382-57-85 (82-790), Revision 3, dated July 8, 2013, including Appendix A, dated July 8, 2013, and Appendixes B, C, D, E, F, and G, all Revision 1, all dated March 8, 2007, for the actions required by this paragraph.

(1) Prior to the accumulation of 40,000 total flight hours on the center wing.

(2) Within 365 days after June 22, 2011 (the effective date of AD 2011-09-04, Amendment 39-16666 (76 FR 28626, May 18, 2011).

(3) Within 10,000 flight hours on the center wing box after the accomplishment of the inspection specified in paragraph (g) of this AD, if done before June 22, 2011 (the effective date of AD 2011-09-04, Amendment 39-16666 (76 FR 28626, May 18, 2011).

(h) Retained Corrective Action With No Changes

This paragraph restates the actions required by paragraph (h) of AD 2011-09-04, Amendment 39-16666 (76 FR 28626, May 18, 2011), with no changes. If any damage is found during any inspection required by paragraph (g) of this AD: Before further flight, repair any damage, using a method approved by the Manager, Atlanta Aircraft Certification Office (ACO), FAA. For a repair method to be approved by the Manager, Atlanta ACO, as required by this paragraph, the Manager's approval letter must specifically refer to this AD.

(i) Retained Exceptions to Lockheed Service Bulletin 382-57-85 (82-790), Revision 2, Dated August 23, 2007, Including Appendixes A, B, C, D, E, F, and G, All Revision 1, All Dated March 8, 2007, With No Changes

(1) This paragraph restates the exception in paragraph (i) of AD 2011-09-04, Amendment 39-16666 (76 FR 28626, May 18, 2011), with no changes. Lockheed Service Bulletin 382-57-85 (82-790), Revision 2, dated August 23, 2007, including Appendixes A, B, C, D, E, F, and G, all Revision 1, all dated March 8, 2007, specifies that operators may adjust thresholds and intervals, use alternative repetitive inspection intervals, and use alternative inspection methods, if applicable. However, this AD requires that any alternative methods or intervals be approved by the Manager, Atlanta ACO. For any alternative methods or intervals to be approved by the Manager, Atlanta ACO, as required by this paragraph, the Manager's approval letter must specifically refer to this AD.

(2) This paragraph restates the exception in paragraph (j) of AD 2011-09-04, Amendment 39-16666 (76 FR 28626, May 18, 2011), with no changes. Where Lockheed Service Bulletin 382-57-85 (82-790), Revision 2, dated August 23, 2007, including Appendixes A, B, C, D, E, F, and G, all Revision 1, all dated March 8, 2007, specifies that alternative repetitive inspection intervals may be used for cold-worked holes, this AD does not allow the longer interval. This AD requires that all cold-worked and non-cold-worked holes be re-inspected at 10,000-flight-hour intervals.

(3) This paragraph restates the exception in paragraph (k) of AD 2011-09-04, Amendment 39-16666 (76 FR 28626, May 18, 2011), with no changes. Where Lockheed Service Bulletin 382-57-85 (82-790), Revision 2, dated August 23, 2007, including Appendixes A, B, C, D, E, F, and G, all Revision 1, all dated March 8, 2007, describes procedures for submitting a report of any damages, this AD does not require such action.

(j) New Inspection and Corrective Action

As of the effective date of this AD, concurrently with accomplishing the inspection required by paragraph (g) of this AD: Do all applicable related investigative actions, in accordance with Appendix A of Lockheed Service Bulletin 382-57-85 (82-790), Revision 3, dated July 8, 2013. If any cracking or damage is found during any related investigative action: Before further flight, repair all cracking and damage, using a method approved by the Manager, Atlanta ACO, FAA. For a repair method to be approved by the Manager, Atlanta ACO, as required by this paragraph, the Manager's approval letter must specifically refer to this AD.

(k) New Replacement (Terminating Action)

Before the accumulation of 50,000 total flight hours, or within 24 months after the effective date of this AD, whichever occurs later: Replace the center wing box, in accordance with the Accomplishment Instructions of Lockheed Service Bulletin 382-57-94, dated December 3, 2013. Accomplishing the replacement terminates the inspections required by this AD.

Note 1 to paragraph (k) of this AD: A note in the Accomplishment Instructions of Lockheed Service Bulletin 382-57-94, dated December 3, 2013, instructs operators to contact Lockheed if any assistance is needed in accomplishing the service bulletin. However, any deviation from the instructions provided in the service information must be approved as an alternative method of compliance (AMOC) as specified in paragraph (n) of this AD.

(l) New Exceptions to Lockheed Service Bulletin 382-57-85 (82-790), Revision 3, Dated July 8, 2013, Including Appendix A, Dated July 8, 2013, and Appendixes B, C, D, E, and G, all Revision 1, All Dated March 8, 2007

(1) Lockheed Service Bulletin 382-57-85 (82-790), Revision 3, dated July 8, 2013, including Appendix A, dated July 8, 2013, and Appendixes B, C, D, E, F, and G, all Revision 1, all dated March 8, 2007, specifies that operators may adjust thresholds and intervals, use alternative repetitive inspection intervals, and use alternative inspection methods. However, this AD requires that any alternative thresholds, intervals, or inspection methods be approved by the Manager, Atlanta ACO. For any alternative thresholds, intervals, or inspection methods to be approved by the Manager, Atlanta ACO, as required by this paragraph, the Manager's approval letter must specifically refer to this AD.

(2) Where Lockheed Service Bulletin 382-57-85 (82-790), Revision 3, dated July 8, 2013, including Appendix A, dated July 8, 2013, and Appendixes B, C, D, E, F, and G, all Revision 1, all dated March 8, 2007, describes procedures for submitting a report of any damages, this AD does not require such action.

(m) Credit for Previous Actions

(1) This paragraph restates the credit provided in paragraph (l) of AD 2011-09-04, Amendment 39-16666 (76 FR 28626, May 18, 2011). This paragraph provides credit for the actions required by paragraph (g) of AD, if those actions were performed before June 22, 2011 (the effective date of AD 2011-09-04), using Lockheed Service Bulletin 382-57-85 (82-790), Revision 1, dated March 8, 2007, which is not incorporated by reference in this AD.

(2) This paragraph restates the credit provided in paragraph (m) of AD 2011-09-04, Amendment 39-16666 (76 FR 28626, May 18, 2011). This paragraph provides credit for the actions required by paragraph (g) of AD, if those actions were performed before June 22, 2011 (the effective date of AD 2011-09-04), using Lockheed Service Bulletin 382-57-85 (82-790), dated August 4, 2005, which is not incorporated by reference in this AD.

(3) This paragraph provides credit for the replacement required by paragraph (k) of AD, if the replacement was performed before the effective date of this AD using Lockheed Service Bulletin 382-57-90, dated November 5, 2010, which is not incorporated by reference in this AD.

(n) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (o)(1) of this AD.

(2) Before using any approved AMOC, notify your appropriate principal inspector, or lacking a principal inspector, the manager of the local flight standards district office/certificate holding district office.

(o) Related Information

(1) For more information about this AD, contact Carl Gray, Aerospace Engineer, Airframe Branch, ACE-117A, FAA, Atlanta Aircraft Certification Office, 1701 Columbia Avenue, College Park, GA 30337; telephone 404-474-5554; fax 404-474-5605; email: carl.w.gray@faa.gov.

(2) For service information identified in this AD, contact Lockheed Martin Corporation/Lockheed Martin Aeronautics Company, Airworthiness Office, Dept. 6A0M, Zone 0252, Column P-58, 86 S. Cobb Drive, Marietta, GA 30063; telephone 770-494-5444; fax 770-494-5445; email ams.portal@lmco.com; Internet http://www.lockheedmartin.com/ams/tools/TechPubs.html. You may view this referenced service information at the FAA, Transport Airplane Directorate, 1601 Lind Avenue SW., Renton, WA. For information on the availability of this material at the FAA, call 425-227-1221.

Issued in Renton, Washington, on June 19, 2014.
Michael J. Kaszycki,
Acting Manager, Transport Airplane Directorate, Aircraft Certification Service.

[FR Doc. 2014-15381 Filed 6-30-14; 8:45 am]

BILLING CODE 4910-13-P